NUCLEAR REGULATORY COMMISSION

10 CFR Parts 1, 2, 20, 30, 40, 50, 55, 70, 73, and 170

[NRC-2021-0171]

RIN 3150-AK72

Miscellaneous Corrections

AGENCY: Nuclear Regulatory Commission.

ACTION: Final rule.

SUMMARY: The U.S. Nuclear Regulatory Commission (NRC) is amending its regulations to make miscellaneous corrections. These changes include correcting an office title, a reference, a misspelling, and two administrative errors, and updating the street address for the NRC's Region I office. This document is necessary to inform the public of these non-substantive amendments to the NRC's regulations.

DATES: This final rule is effective on May 9, 2022.

ADDRESSES: Please refer to Docket ID NRC-2021-0171 when contacting the NRC about the availability of information for this action. You may obtain publicly available information related to this action by any of the following methods:

• Federal Rulemaking Website: Go to https://www.regulations.gov and search for Docket ID NRC-2021-0171. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to pdr.resource@nrc.gov.

• NRC's PDR: You may examine and purchase copies of public documents, by appointment, at the PDR, Room P1 B35, One White Flint North, 11555 Rockville Pike, Rockville, Maryland 20852. To make an appointment to visit the PDR, please send an email to pdr.resource@nrc.gov or call 1-800-397-4209 or 301-415-4737, between 8:00 a.m. and 4:00 p.m. (ET), Monday through Friday, except Federal holidays.

FOR FURTHER INFORMATION CONTACT: Helen Chang, Office of Nuclear Material Safety and Safeguards, U.S. Nuclear Regulatory Commission, Washington, DC 20555-0001; telephone: 301-415-3228, email: Helen.Chang@nrc.gov.

SUPPLEMENTARY INFORMATION:

I. Introduction

The NRC is amending its regulations in parts 1, 2, 20, 30, 40, 50, 55, 70, 73, and 170 of title 10 of the Code of Federal Regulations (10 CFR). The NRC is making these amendments to correct an office title, a reference, a misspelling, and two administrative errors, and to update the street address for the NRC's Region I office.

II. Summary of Changes

10 CFR Parts 1, 20, 30, 40, 55, 70, and 73

Update Street Address. This final rule revises § 1.5(b)(1), appendix D to 10 CFR part 20, § 30.6(b)(2)(i) and (ii), § 40.5(b)(2)(i) and (ii), § 55.5(b)(2)(i), § 70.5(b)(2)(i) and (ii), and appendix A to 10 CFR part 73 to update the street address for the NRC Region I office.

10 CFR Part 2

Correct Office Title. This final rule amends the definition for Commission Adjudicatory Employee in § 2.4 by removing the text “Deputy General Counsel for Rulemaking and Policy Support” and adding in its place the text “Deputy General Counsel for Legislation, Rulemaking, and Agency Administration.” This change is made to reflect the realignment of the NRC's Office of the General Counsel.

Correct Administrative Error. This final rule amends § 2.101(a)(5) by removing “an application for a construction permit under part 52 of this chapter” and adding in its place “an application for a construction permit under part 50 of this chapter or a combined license under part 52 of this chapter.” Applications for construction permits are governed by 10 CFR part 50 and combined licenses by 10 CFR part 52. This final rule amends § 2.101(a)(5) to correct this error.

10 CFR Part 50

Correct Reference. This final rule amends footnote 1 to § 50.72 by removing the reference “72.216” and adding in its place the references “72.74, 72.75.” Section 72.216 was deleted in a 2003 final rule (68 FR 33611; June 5, 2003), and the immediate notification requirements are currently contained in §§ 72.74 and 72.75.

10 CFR Part 70

Correct Spelling. This final rule amends the introductory text of § 70.61(b) to remove the text “paragrahs” and add in its place the text “paragraphs.”

10 CFR Part 170

Correct Administrative Error. This final rule revises fee categories B and D in table 1 to § 170.21 to conform to a previous rulemaking. The 2007 final rule, “Licenses, Certifications, and Approvals for Nuclear Power Plants” (72 FR 49351; August 28, 2007), added a new § 52.153, “Relationship to other subparts,” to explain how subpart F to 10 CFR part 52 relates to other licensing processes in 10 CFR parts 50 and 52, as well as to the regulatory approvals in 10 CFR part 52. The final rule removed the reference to “preliminary or final” design approvals contained in § 52.153(b) of the proposed rule, inasmuch as the final rule does not provide for preliminary design approvals. Therefore, this final rule makes conforming changes by revising fee categories B and D in table 1 to § 170.21 to remove the references to “preliminary or final” design approvals and replace them with references to “standard” design approvals. Fee category D is further revised to add a comma after the word “Amendment” in “Amendment, Renewal, Other Approvals” for conformity and clarity.

III. Rulemaking Procedure

Under section 553(b) of the Administrative Procedure Act (5 U.S.C.553(b)), an agency may waive publication in the Federal Register of a notice of proposed rulemaking and opportunity for comment requirements if it finds, for good cause, that it is impracticable, unnecessary, or contrary to the public interest. As authorized by 5 U.S.C. 553(b)(3)(B), the NRC finds good cause to waive notice and opportunity for comment on these amendments, because notice and opportunity for comment is unnecessary. The amendments will have no substantive impact and are of a minor and administrative nature dealing with corrections to certain CFR sections or are related only to management, organization, procedure, and practice. Specifically, the revisions correct an office title, a reference, a misspelling, and two administrative errors, and update the street address for the NRC's Region I office. The Commission is exercising its authority under 5 U.S.C. 553(b) to publish these amendments as a final rule. The amendments are effective May 9, 2022. These amendments do not require action by any person or entity regulated by the NRC and do not change the substantive responsibilities of any person or entity regulated by the NRC.

IV. Backfitting and Issue Finality

The NRC has determined that the corrections in this final rule would not constitute backfitting as defined in § 50.109, “Backfitting,” and as described in NRC Management Directive (MD) 8.4, “Management of Backfitting, Forward Fitting, Issue Finality, and Information Requests.” These corrections also would not constitute forward fitting as that term is defined and described in MD 8.4 or affect the issue finality of any approval issued under 10 CFR part 52. The amendments are non-substantive in nature, including correcting an office title, a reference, a misspelling, and two administrative errors, and updating the street address for the NRC's Region I office. They impose no new requirements and make no substantive changes to the regulations. The corrections do not involve any provisions that would impose backfits as defined in 10 CFR chapter I, or that would be inconsistent with the issue finality provisions in 10 CFR part 52. For these reasons, the issuance of this final rule would not constitute backfitting or be inconsistent with any of the issue finality provisions in 10 CFR part 52. Therefore, the NRC has not prepared any additional documentation for this correction rulemaking addressing backfitting or issue finality.

V. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31885).

VI. National Environmental Policy Act

The NRC has determined that this final rule is the type of action described in § 51.22(c)(2), which categorically excludes from environmental review rules that are corrective or of a minor, nonpolicy nature and do not substantially modify existing regulations. Therefore, neither an environmental impact statement nor an environmental assessment has been prepared for this rule.

VII. Paperwork Reduction Act

This final rule does not contain a collection of information as defined in the Paperwork Reduction Act of 1995 (44 U.S.C. 3501 et seq.) and, therefore, is not subject to the requirements of the Paperwork Reduction Act of 1995.

VIII. Congressional Review Act

This final rule is not a rule as defined in the Congressional Review Act (5 U.S.C. 801-808).

IX. Compatibility of Agreement State Regulations

Under the “Agreement State Program Policy Statement” approved by the Commission on October 2, 2017, and published in the Federal Register on October 18, 2017 (82 FR 48535), NRC program elements (including regulations) are placed into compatibility categories A, B, C, D, NRC, or adequacy category Health and Safety (H&S). Compatibility Category A program elements are those program elements that are basic radiation protection standards and scientific terms and definitions that are necessary to understand radiation protection concepts. An Agreement State should adopt Category A program elements in an essentially identical manner in order to provide uniformity in the regulation of agreement material on a nationwide basis. Compatibility Category B program elements are those program elements that apply to activities that have direct and significant effects in multiple jurisdictions. An Agreement State should adopt Category B program elements in an essentially identical manner. Compatibility Category C program elements are those program elements that do not meet the criteria of Category A or B but contain the essential objectives that an Agreement State should adopt to avoid conflict, duplication, gaps, or other conditions that would jeopardize an orderly pattern in the regulation of agreement material on a national basis. An Agreement State should adopt the essential objectives of the Category C program elements. Compatibility Category D program elements are those program elements that do not meet any of the criteria of Category A, B, or C and, therefore, do not need to be adopted by Agreement States for purposes of compatibility. Compatibility Category NRC program elements are those program elements that address areas of regulation that cannot be relinquished to the Agreement States under the Atomic Energy Act of 1954, as amended, or provisions of 10 CFR. These program elements should not be adopted by the Agreement States. Compatibility Category H&S program elements are program elements that are required because of a particular health and safety role in the regulation of agreement material within the State and should be adopted in a manner that embodies the essential objectives of the NRC program. The portions of this final rule that amend 10 CFR parts 20, 30, 40, and 70 are a matter of compatibility between the NRC and the Agreement States, thereby providing consistency among Agreement State and NRC requirements, and are listed in the following table. The changes to 10 CFR parts 1, 2, 50, 55, 73, and 170 categories are not subject to Agreement State jurisdiction and consequently are not required for compatibility.

Compatibility Table
Section | Change | Subject | Compatibility: Existing | Compatibility: New
Part 20
Appendix D | Amend | United States Regulatory Commission Offices | D | D
Part 30
§ 30.6(b)(2)(i) and (ii) | Amend | Communications | D | D
Part 40
§ 40.5(b)(2)(i) and (ii) | Amend | Communications | D | D
Part 70
§ 70.5(b)(2)(i) and (ii) | Amend | Communications | D | D
§ 70.61 | Amend | Performance requirements | NRC | NRC

List of Subjects

10 CFR Part 1

Flags, Organization and functions (Government agencies), Seals and insignia.

10 CFR Part 2

Administrative practice and procedure, Antitrust, Byproduct material, Classified information, Confidential business information, Freedom of information, Environmental protection, Hazardous waste, Nuclear energy, Nuclear materials, Nuclear power plants and reactors, Penalties, Reporting and recordkeeping requirements, Sex discrimination, Source material, Special nuclear material, Waste treatment and disposal.

10 CFR Part 20

Byproduct material, Criminal penalties, Hazardous waste, Licensed material, Nuclear energy, Nuclear materials, Nuclear power plants and reactors, Occupational safety and health, Packaging and containers, Penalties, Radiation protection, Reporting and recordkeeping requirements, Source material, Special nuclear material, Waste treatment and disposal.

10 CFR Part 30

Byproduct material, Criminal penalties, Government contracts, Intergovernmental relations, Isotopes, Nuclear energy, Nuclear materials, Penalties, Radiation protection, Reporting and recordkeeping requirements, Whistleblowing.

10 CFR Part 40

Criminal penalties, Exports, Government contracts, Hazardous materials transportation, Hazardous waste, Nuclear energy, Nuclear materials, Penalties, Reporting and recordkeeping requirements, Source material, Uranium, Whistleblowing.

10 CFR Part 50

Administrative practice and procedure, Antitrust, Backfitting, Classified information, Criminal penalties, Education, Emergency planning, Fire prevention, Fire protection, Intergovernmental relations, Nuclear power plants and reactors, Penalties, Radiation protection, Reactor siting criteria, Reporting and recordkeeping requirements, Whistleblowing.

10 CFR Part 55

Criminal penalties, Manpower training programs, Nuclear power plants and reactors, Penalties, Reporting and recordkeeping requirements.

10 CFR Part 70

Classified information, Criminal penalties, Emergency medical services, Hazardous materials transportation, Material control and accounting, Nuclear energy, Nuclear materials, Packaging and containers, Penalties, Radiation protection, Reporting and recordkeeping requirements, Scientific equipment, Security measures, Special nuclear material, Whistleblowing.

10 CFR Part 73

Criminal penalties, Exports, Hazardous materials transportation, Imports, Nuclear energy, Nuclear materials, Nuclear power plants and reactors, Penalties, Reporting and recordkeeping requirements, Security measures.

10 CFR Part 170

Byproduct material, Import and export licenses, Intergovernmental relations, Non-payment penalties, Nuclear energy, Nuclear materials, Nuclear power plants and reactors, Source material, Special nuclear material.

For the reasons set out in the preamble and under the authority of the Atomic Energy Act of 1954, as amended; the Energy Reorganization Act of 1974, as amended; and 5 U.S.C. 552 and 553, the NRC is adopting the following amendments to 10 CFR parts 1, 2, 20, 30, 40, 50, 55, 70, 73, and 170:

PART 1—STATEMENT OF ORGANIZATION AND GENERAL INFORMATION

1. The authority citation for part 1 continues to read as follows:

Authority: Atomic Energy Act of 1954, secs. 23, 25, 29, 161, 191 (42 U.S.C. 2033, 2035, 2039, 2201, 2241); Energy Reorganization Act of 1974, secs. 201, 203, 204, 205, 209 (42 U.S.C. 5841, 5843, 5844, 5845, 5849); Administrative Procedure Act (5 U.S.C. 552, 553); Reorganization Plan No. 1 of 1980, 5 U.S.C. Appendix (Reorganization Plans).

2. In § 1.5, revise paragraph (b)(1) to read as follows:

§ 1.5 Location of principal offices and regional offices.

* * * * *

(b) * * *

(1) Region I, U.S. NRC, 475 Allendale Road, Suite 102, King of Prussia, PA 19406-1415.

* * * * *

PART 2—AGENCY RULES OF PRACTICE AND PROCEDURE

3. The authority citation for part 2 continues to read as follows:

Authority: Atomic Energy Act of 1954, secs. 29, 53, 62, 63, 81, 102, 103, 104, 105, 161, 181, 182, 183, 184, 186, 189, 191, 234 (42 U.S.C. 2039, 2073, 2092, 2093, 2111, 2132, 2133, 2134, 2135, 2201, 2231, 2232, 2233, 2234, 2236, 2239, 2241, 2282); Energy Reorganization Act of 1974, secs. 201, 206 (42 U.S.C. 5841, 5846); Nuclear Waste Policy Act of 1982, secs. 114(f), 134, 135, 141 (42 U.S.C. 10134(f), 10154, 10155, 10161); Administrative Procedure Act (5 U.S.C. 552, 553, 554, 557, 558); National Environmental Policy Act of 1969 (42 U.S.C. 4332); 44 U.S.C. 3504 note.

Section 2.205(j) also issued under 28 U.S.C. 2461 note.

§ 2.4 [Amended]

4. In § 2.4, amend the definition of “Commission adjudicatory employee” by removing the text “Deputy General Counsel for Rulemaking and Policy Support” and adding in its place the text “Deputy General Counsel for Legislation, Rulemaking, and Agency Administration”.

§ 2.101 [Amended]

5. In § 2.101(a)(5), remove the text “an application for a construction permit under part 52 of this chapter” and add in its place the text “an application for a construction permit under part 50 of this chapter or a combined license under part 52 of this chapter”.

PART 20—STANDARDS FOR PROTECTION AGAINST RADIATION

6. The authority citation for part 20 continues to read as follows:

Authority: Atomic Energy Act of 1954, secs. 11, 53, 63, 65, 81, 103, 104, 161, 170H, 182, 186, 223, 234, 274, 1701 (42 U.S.C. 2014, 2073, 2093, 2095, 2111, 2133, 2134, 2201, 2210h, 2232, 2236, 2273, 2282, 2021, 2297f); Energy Reorganization Act of 1974, secs. 201, 202 (42 U.S.C. 5841, 5842); Low-Level Radioactive Waste Policy Amendments Act of 1985, sec. 2 (42 U.S.C. 2021b); 44 U.S.C. 3504 note.

7. In appendix D to part 20, revise the second entry in the table to read as follows:

Appendix D to Part 20—United States Nuclear Regulatory Commission Regional Offices
| Address | Telephone (24 hour) | Email
* * * * * * *
Region I: Connecticut, Delaware, District of Columbia, Maine, Maryland, Massachusetts, New Hampshire, New Jersey, New York, Pennsylvania, Rhode Island, and Vermont | USNRC, Region I, 475 Allendale Road, Suite 102, King of Prussia, PA 19406-1415 | (610) 337-5000, (800) 432-1156 TDD: (301) 415-5575 | RidsRgn1MailCenter@nrc.gov.
* * * * * * *

PART 30—RULES OF GENERAL APPLICABILITY TO DOMESTIC LICENSING OF BYPRODUCT MATERIAL

8. The authority citation for part 30 continues to read as follows:

Authority: Atomic Energy Act of 1954, secs. 11, 81, 161, 181, 182, 183, 184, 186, 187, 223, 234, 274 (42 U.S.C. 2014, 2111, 2201, 2231, 2232, 2233, 2234, 2236, 2237, 2273, 2282, 2021); Energy Reorganization Act of 1974, secs. 201, 202, 206, 211 (42 U.S.C. 5841, 5842, 5846, 5851); 44 U.S.C. 3504 note.

§ 30.6 [Amended]

9. Amend § 30.6(b)(2)(i) and (ii) by removing the address “U.S. Nuclear Regulatory Commission, Region I, Nuclear Material Section B, Region I, 2100 Renaissance Boulevard, Suite 100, King of Prussia, PA 19406-2713” and adding in its place the address “U.S. Nuclear Regulatory Commission, Region I, 475 Allendale Road, Suite 102, King of Prussia, PA 19406-1415”.

PART 40—DOMESTIC LICENSING OF SOURCE MATERIAL

10. The authority citation for part 40 continues to read as follows:

Authority: Atomic Energy Act of 1954, secs. 62, 63, 64, 65, 69, 81, 83, 84, 122, 161, 181, 182, 183, 184, 186, 187, 193, 223, 234, 274, 275 (42 U.S.C. 2092, 2093, 2094, 2095, 2099, 2111, 2113, 2114, 2152, 2201, 2231, 2232, 2233, 2234, 2236, 2237, 2243, 2273, 2282, 2021, 2022); Energy Reorganization Act of 1974, secs. 201, 202, 206, 211 (42 U.S.C. 5841, 5842, 5846, 5851); Uranium Mill Tailings Radiation Control Act of 1978, sec. 104 (42 U.S.C. 7914); 44 U.S.C. 3504 note.

§ 40.5 [Amended]

11. Amend § 40.5(b)(2)(i) and (ii) by removing the address “U.S. Nuclear Regulatory Commission, Region I, Nuclear Material Section B, Region I, 2100 Renaissance Boulevard, Suite 100, King of Prussia, PA 19406-2713” and adding in its place the address “U.S. Nuclear Regulatory Commission, Region I, 475 Allendale Road, Suite 102, King of Prussia, PA 19406-1415”.

PART 50—DOMESTIC LICENSING OF PRODUCTION AND UTILIZATION FACILITIES

12. The authority citation for part 50 continues to read as follows:

Authority: Atomic Energy Act of 1954, secs. 11, 101, 102, 103, 104, 105, 108, 122, 147, 149, 161, 181, 182, 183, 184, 185, 186, 187, 189, 223, 234 (42 U.S.C. 2014, 2131, 2132, 2133, 2134, 2135, 2138, 2152, 2167, 2169, 2201, 2231, 2232, 2233, 2234, 2235, 2236, 2237, 2239, 2273, 2282); Energy Reorganization Act of 1974, secs. 201, 202, 206, 211 (42 U.S.C. 5841, 5842, 5846, 5851); Nuclear Waste Policy Act of 1982, sec. 306 (42 U.S.C. 10226); National Environmental Policy Act of 1969 (42 U.S.C. 4332); 44 U.S.C. 3504 note; Sec. 109, 94 Stat. 783.

§ 50.72 [Amended]

13. In footnote 1 to § 50.72, remove the reference “72.216” and add in its place the references “72.74, 72.75”.

PART 55—OPERATORS' LICENSES

14. The authority citation for part 55 continues to read as follows:

Authority: Atomic Energy Act of 1954, secs. 107, 161, 181, 182, 183, 186, 187, 223, 234 (42 U.S.C. 2137, 2201, 2231, 2232, 2233, 2236, 2237, 2273, 2282); Energy Reorganization Act of 1974, secs. 201, 202 (42 U.S.C. 5841, 5842); Nuclear Waste Policy Act of 1982, sec. 306 (42 U.S.C. 10226); 44 U.S.C. 3504 note.

§ 55.5 [Amended]

15. Amend § 55.5(b)(2)(i) by removing the address “U.S. Nuclear Regulatory Commission, 2100 Renaissance Boulevard, Suite 100, King of Prussia, PA 19406-2713” and adding in its place the address “U.S. Nuclear Regulatory Commission, 475 Allendale Road, Suite 102, King of Prussia, PA 19406-1415”.

PART 70—DOMESTIC LICENSING OF SPECIAL NUCLEAR MATERIAL

16. The authority citation for part 70 continues to read as follows:

Authority: Atomic Energy Act of 1954, secs. 51, 53, 57(d), 108, 122, 161, 182, 183, 184, 186, 187, 193, 223, 234, 274, 1701 (42 U.S.C. 2071, 2073, 2077(d), 2138, 2152, 2201, 2232, 2233, 2234, 2236, 2237, 2243, 2273, 2282, 2021, 2297f); Energy Reorganization Act of 1974, secs. 201, 202, 206, 211 (42 U.S.C. 5841, 5842, 5846, 5851); Nuclear Waste Policy Act of 1982, secs. 135, 141 (42 U.S.C. 10155, 10161); 44 U.S.C. 3504 note.

Sections 70.1(c) and 70.20a(b) also issued under secs. 135, 141, 96 Stat. 2232, 2241 (42 U.S.C. 10155, 10161).

Section 70.21(g) also issued under Atomic Energy Act sec. 122 (42 U.S.C. 2152).

Section 70.31 also issued under Atomic Energy Act sec. 57(d) (42 U.S.C. 2077(d)).

Sections 70.36 and 70.44 also issued under Atomic Energy Act sec. 184 (42 U.S.C. 2234).

Section 70.81 also issued under Atomic Energy Act secs. 186, 187 (42 U.S.C. 2236, 2237).

Section 70.82 also issued under Atomic Energy Act sec. 108 (42 U.S.C. 2138).

§ 70.5 [Amended]

17. Amend § 70.5(b)(2)(i) and (ii) by removing the address “U.S. Nuclear Regulatory Commission, Region I, Nuclear Material Section B, 2100 Renaissance Boulevard, Suite 100, King of Prussia, PA 19406-2713” and adding in its place the address “U.S. Nuclear Regulatory Commission, Region I, 475 Allendale Road, Suite 102, King of Prussia, PA 19406-1415”.

§ 70.61 [Amended]

18. In § 70.61, amend paragraph (b) introductory text by removing the text “paragrahs (b)(1)-(4)” and adding in its place the text “paragraphs (b)(1) through (4)”.

PART 73—PHYSICAL PROTECTION OF PLANTS AND MATERIALS

19. The authority citation for part 73 continues to read as follows:

Authority: Atomic Energy Act of 1954, secs. 53, 147, 149, 161, 170D, 170E, 170H, 170I, 223, 229, 234, 1701 (42 U.S.C. 2073, 2167, 2169, 2201, 2210d, 2210e, 2210h, 2210i, 2273, 2278a, 2282, 2297f); Energy Reorganization Act of 1974, secs. 201, 202 (42 U.S.C. 5841, 5842); Nuclear Waste Policy Act of 1982, secs. 135, 141 (42 U.S.C. 10155, 10161); 44 U.S.C. 3504 note.

Section 73.37(b)(2) also issued under Sec. 301, Public Law 96-295, 94 Stat. 789 (42 U.S.C. 5841 note).

20. In appendix A to part 73, revise the second entries in both tables to read as follows:

Appendix A to Part 73—U.S. Nuclear Regulatory Commission Offices and Classified Mailing Addresses
| Address | Telephone (24 hour) | Email
* * * * * * *
Region I: Connecticut, Delaware, District of Columbia, Maine, Maryland, Massachusetts, New Hampshire, New Jersey, New York, Pennsylvania, Rhode Island, and Vermont | USNRC, Region I, 475 Allendale Road, Suite 102, King of Prussia, PA 19406-1415 | (610) 337-5000, (800) 432-1156 TDD: (301) 415-5575 | RidsRgn1MailCenter@nrc.gov.
* * * * * * *

Classified Mailing Addresses
| Addresses
* * * * * * *
Region I | U.S. NRC, 475 Allendale Road, Suite 102, King of Prussia, PA 19406-1415.
* * * * * * *

* * * * *

PART 170—FEES FOR FACILITIES, MATERIALS, IMPORT AND EXPORT LICENSES, AND OTHER REGULATORY SERVICES UNDER THE ATOMIC ENERGY ACT OF 1954, AS AMENDED

21. The authority citation for part 170 continues to read as follows:

Authority: Atomic Energy Act of 1954, secs. 11, 161(w) (42 U.S.C. 2014, 2201(w)); Energy Reorganization Act of 1974, sec. 201 (42 U.S.C. 5841); 42 U.S.C. 2215; 31 U.S.C. 901, 902, 9701; 44 U.S.C. 3504 note.

22. In § 170.21, revise fee categories B and D in table 1 to read as follows:

§ 170.21 Schedule of fees for production and utilization facilities, review of standard referenced design approvals, special projects, inspections and import and export licenses.

* * * * *

Table 1 to § 170.21—Schedule of Facility Fees
[See footnotes at end of table]
Facility categories and type of fees | Fees ¹ ²
* * * * * * *
B. Standard Reference Design Review:
Standard Design Approvals, Certification | Full Cost.
Amendment, Renewal, Other Approvals | Full Cost.
* * * * * * *
D. Manufacturing License:
Application for Construction | Full Cost.
Standard Design Approval | Full Cost.
Amendment, Renewal, Other Approvals | Full Cost.
Inspections ³ | Full Cost.
* * * * * * *
¹ Fees will be charged for approvals issued under a specific exemption provision of the Commission's regulations under title 10 of the Code of Federal Regulations (e.g., 10 CFR 50.12, 10 CFR 73.5) and any other sections in effect now or in the future, regardless of whether the approval is in the form of a license amendment, letter of approval, safety evaluation report, or other form.
² Full cost fees will be determined based on the professional staff time and appropriate contractual support services expended. For applications currently on file and for which fees are determined based on the full cost expended for the review, the professional staff hours expended for the review of the application up to the effective date of the final rule will be determined at the professional rates in effect when the service was provided.
³ Inspections covered by this schedule are both routine and non-routine safety and safeguards inspections performed by the NRC for the purpose of review or follow-up of a licensed program. Inspections are performed through the full term of the license to ensure that the authorized activities are being conducted in accordance with the Atomic Energy Act of 1954, as amended, other legislation, Commission regulations or orders, and the terms and conditions of the license. Non-routine inspections that result from third-party allegations will not be subject to fees.

* * * * *

Dated: April 5, 2022.
For the Nuclear Regulatory Commission.
Cindy K. Bladey,
Chief, Regulatory Analysis and Rulemaking Support Branch, Division of Rulemaking, Environmental, and Financial Support, Office of Nuclear Material Safety and Safeguards.

[FR Doc. 2022-07610 Filed 4-7-22; 8:45 am]

BILLING CODE 7590-01-P